FEDERAL RESERVE SYSTEM

Formations of, Acquisitions by, and Mergers of Bank Holding Companies; Correction

This notice corrects a notice (FR Doc. 01-20056) published on page 42229 of the issue for Friday, August 10, 2001.

Under the Federal Reserve Bank of Kansas City heading, the entry for Team Financial Acquisition Subsidiary, Inc., Paola, Kansas, was published twice. The correct end of the comment period for this application was August 1, 2001.

Board of Governors of the Federal Reserve System, August 14, 2001.
Robert deV. Frierson,
Deputy Secretary of the Board.

[FR Doc. 01-20846 Filed 8-17-00; 8:45 am]

BILLING CODE 6210-01-S